DEPARTMENT OF THE INTERIOR

National Park Service

[N6664; NPS-WASO-NAGPRA-NPS0041401; PPWOCRADN0-PCU00RP14.R50000]

Notice of Intended Repatriation: California State University, Los Angeles, Los Angeles, CA

AGENCY: National Park Service, Interior.

ACTION: Notice.

SUMMARY: In accordance with the Native American Graves Protection and Repatriation Act (NAGPRA), the California State University, Los Angeles intends to repatriate certain cultural items that meet the definition of objects of cultural patrimony and that have a cultural affiliation with the Indian Tribes or Native Hawaiian organizations in this notice.

DATES: Repatriation of the cultural items in this notice may occur on or after January 16, 2026.

ADDRESSES: Send additional, written requests for repatriation of the cultural items in this notice to Gregorio Pacheco, California State University, Los Angeles, 5151 State University Drive, Los Angeles, CA 90032, email gpache15@calstatela.edu.

SUPPLEMENTARY INFORMATION: This notice is published as part of the National Park Service's administrative responsibilities under NAGPRA. The determinations in this notice are the sole responsibility of the California State University, Los Angeles, and additional information on the determinations in this notice, including the results of consultation, can be found in the summary or related records. The National Park Service is not responsible for the determinations in this notice.

Abstract of Information Available

A total of 753 cultural items have been requested for repatriation. All 753 cultural items have been identified and requested as objects of cultural patrimony by the Tribe.

A total of 371 items identified as objects of cultural patrimony by the Tribe includes groundstone tools, hammerstones, flaked stone tools, pottery fragments, fire affected rock fragment, unmodified faunal bone fragment, soil samples and lithic debitage. The items are associated with sites CA-LAN-166 and CA-LAN-518. The surface collection and test excavations that resulted in collection of these items occurred in the spring of 1973 under the direction of Hal Eberhardt assisted by Warren Wasson. Eberhardt was a professor at Cal State LA and brought the collection to campus. Analysis was completed and an article describing the artifacts was published in 1978 in the Pacific Coast Archaeological Society Quarterly (Volume 14, Issue 2). No known hazardous substances were utilized to treat the items.

A total of 37 items identified as objects of cultural patrimony by the Tribe includes groundstone tools, flaked stone tools and lithic debitage. The items are associated with site CA-LAN-173. These items appear to be from a surface collection conducted by Hal Eberhardt when he was faculty at Cal State LA in the early 1970s. No known hazardous substances were utilized to treat these items.

A total of 10 items identified as objects of cultural patrimony by the Tribe includes groundstone tools, flaked stone tools and rock fragments. The items are associated with sites CA-LAN-75 and CA-LAN-338. It is unclear exactly how these items came to campus. Not sure. An archaeological site record was filled out by Hal Eberhardt in 1951 when he was faculty at Cal State LA, so it is assumed that Eberhardt brought these 10 items to Cal State LA sometime during the 1950s-1970s. No documentation has been found on how these items were collected. The small size and type of collection (10 items) suggest they were surface collected and not from excavations. No known hazardous substances were utilized to treat the items.

A total of 335 items identified as objects of cultural patrimony by the Tribe includes groundstone tools, hammerstones, cores, flaked stone tools, unmodified faunal bone, wood (¹⁴C sample), and lithic debitage. The items are associated with site CA-LAN-399. Excavations were conducted by Hal Eberhardt between April 1966 and June 1967 on the Glendora property of Mr. and Mrs. Sassone. A report for this excavation authored by Hal Eberhardt and Warren Wasson and titled The Sassone Site (Lan-339): A Milling Stone Horizon Station in the San Gabriel Valley, California Report indicates that that items were retained by the landowners with “a small type selection” being left with the Department of Anthropology, Cal State LA. This “type selection” are the items described here. No known hazardous substances were utilized to treat the items.

Determinations

California State University, Los Angeles has determined that:

• The 753 items identified and characterized by the tribe as objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the California State University, Los Angeles must determine the most appropriate requestor prior to repatriation. Requests for joint repatriation of the cultural items are considered a single request and not competing requests. The California State University, Los Angeles is responsible for sending a copy of this notice to the Indian Tribes and Native Hawaiian organizations identified in this notice and to any other consulting parties.

Authority: Native American Graves Protection and Repatriation Act, 25 U.S.C. 3004 and the implementing regulations, 43 CFR 10.9.

Dated: November 21, 2025.
Melanie O'Brien,
Manager, National NAGPRA Program.

[FR Doc. 2025-23009 Filed 12-16-25; 8:45 am]

BILLING CODE 4312-52-P